NUCLEAR REGULATORY COMMMISSION

[Docket No. 50-323]

Diablo Canyon Power Plant, Unit No. 2, Pacific Gas & Electric Company; Biweekly Notice Applications and Amendments to Operating Licenses Involving No Significant Hazards Considerations; Correction

In notice document 03-9026, beginning on page 18284, in the issue of Tuesday, April 15, 2003, make the following correction:

In the first column, beginning on line 13, the words “would revise Technical Specification (TS) 5.5.9, ‘Steam Generator Tube Surveillance Program,' and TS 5.6.10, ‘Steam Generator Tube Inspection Report',” should be corrected to read “would authorize revision of the Final Safety Analysis Report Update,”.

Dated at Rockville, Maryland, this 22nd day of May 2003.
For the Nuclear Regulatory Commission.
David H. Jaffe,
Acting Project Manager, Section 2, Project Directorate IV, Division of Licensing Project Management, Office of Nuclear Reactor Regulation.

[FR Doc. 03-13869 Filed 6-2-03; 8:45 am]

BILLING CODE 7590-01-P